Title 3—

The President

Order of March 10, 2014

Sequestration Order for Fiscal Year 2015 Pursuant To Section 251A of the Balanced Budget and Emergency Deficit Control Act, as Amended

By the authority vested in me as President by the laws of the United States of America, and in accordance with section 251A of the Balanced Budget and Emergency Deficit Control Act (the “Act”), as amended, 2 U.S.C. 901a, I hereby order that, on October 1, 2014, direct spending budgetary resources for fiscal year 2015 in each non-exempt budget account be reduced by the amount calculated by the Office of Management and Budget in its report to the Congress of March 10, 2014.

All sequestrations shall be made in strict accordance with the requirements of section 251A of the Act and the specifications of the Office of Management and Budget's report of March 10, 2014, prepared pursuant to section 251A(9) of the Act.

THE WHITE HOUSE,

March 10, 2014.

[FR Doc. 2014-05756

Filed 3-12-14; 11:15 am]

Billing code 3295-F4